DEPARTMENT OF HEALTH AND HUMAN SERVICES

Request for Public Comment on a Nomination to the Office of Health Assessment and Translation

AGENCY: Division of the National Toxicology Program (DNTP), National Institute of Environmental Health Sciences (NIEHS), National Institutes of Health (NIH).

ACTION: Request for public comment.

SUMMARY: The NTP requests comments on Air Pollution and Children's Health, which was nominated for a possible evaluation by the Office of Health Assessment and Translation (OHAT). This nomination focuses on substances, mixtures, and exposure circumstances (collectively referred to as “substances”) related to traffic/near road air pollution and their association with emerging children's health outcomes.

DATES: The deadline for submission of public comments on the nominated substances is August 24, 2012; comments submitted after this date will be considered as time permits.

ADDRESSES: Comments should be sent to Dr. Kembra Howdeshell, Office of Health Assessment and Translation, DNTP, NIEHS, P.O. Box 12233, MD K2-04, Research Triangle Park, NC 27709; telephone (919) 316-4708; FAX: (919) 316-4511; howdeshellkl@niehs.nih.gov. Courier address: NIEHS, Room 2161, 530 Davis Drive, Morrisville, NC 27560. Comments can also be submitted online at the OHAT Web site (http://ntp.niehs.nih.gov/go/evals).

FOR FURTHER INFORMATION CONTACT: Dr. Kembra Howdeshell (telephone: (919) 316-4708 or email howdeshellkl@niehs.nih.gov).

SUPPLEMENTARY INFORMATION:

Request for Public Comment on Nomination to OHAT

The NTP requests public comment on the nomination of Air Pollution and Children's Health for possible evaluation by OHAT. Specifically, the NTP requests information on the following topics: (1) Current exposures and health outcomes considered in this nomination (see list below and the draft literature search strategy provided on the OHAT Web site (http://ntp.niehs.gov/go/evals), (2) published, ongoing, or planned studies related to traffic/near road air pollution and children's health, (3) scientific issues important for assessing emerging health outcomes in children associated with traffic/near road air pollution, and (4) names of scientists with expertise or knowledge about traffic/near road air pollution and children's health. Please include any available bibliographic citations for the information. The NTP will use this information for refining the draft literature search strategy for the nomination prior to a potential formal evaluation by OHAT.

The exposures associated with the nomination include air pollution and the following components: benzene, carbon monoxide, diesel, nitrogen oxides, ozone, particulate matter (PM10, PM2.5, coarse PM, and ultrafine PM), polyaromatic hydrocarbons, and sulfur oxides. The emerging children's health outcomes associated with the nomination include: Incidence and exacerbation of asthma, incidence of allergic disease, adverse birth outcomes (i.e., premature birth, small for gestational age birth weight, and congenital anomalies), respiratory infections in early life, pediatric cancer, development of the nervous system, modifying risk of adult onset diseases (i.e., fetal basis of adult cardiovascular, metabolic or chronic obstructive pulmonary disease), and compromised lung function, development, and growth. Several important air contaminants, including tobacco smoke, mercury, lead, arsenic, indoor aeroallergens, and indoor volatile organic compounds, are not included because they have been addressed in other comprehensive reviews.

Persons submitting public comments are asked to include their name, contact information, affiliation, and sponsoring organization (if any) and to send them to Dr. Howdeshell (see ADDRESSES above). All information received will be posted on the OHAT Web site and the submitter identified by name, affiliation, and sponsoring organization, if applicable. The deadline for submission of public comment is August 24, 2012. Comments and information received after that date will be added to the public record and used by the NTP, as time permits, in refining the literature search strategy and scope of this nomination for potential evaluation by OHAT.

Background Information on OHAT

The NTP and the National Institute of Environmental Health Sciences established the Office of Health Assessment and Translation (OHAT) to serve as an environmental health resource to the public and to regulatory and health agencies. This office conducts evaluations to assess the evidence that environmental chemicals, physical substances, or mixtures (collectively referred to as “substances”) cause adverse health effects and provides opinions on whether these substances may be of concern given what is known about current human exposure levels. OHAT evaluations are published as NTP Monographs. OHAT also organizes state-of-the-science workshops to address issues of importance in environmental health sciences. Information about the OHAT is available on the OHAT Web site (http://ntp.niehs.gov/go/ohat) or by contacting Dr. Howdeshell (see ADDRESSES).

Dated: July 5, 2012.
John R. Bucher,
Associate Director, National Toxicology Program.

[FR Doc. 2012-17114 Filed 7-12-12; 8:45 am]

BILLING CODE 4140-01-P